ENVIRONMENTAL PROTECTION AGENCY

40 CFR Part 65

[EPA-HQ-OAR-2010-0868; EPA-HQ-OAR-2010-0869; EPA-HQ-OAR-2010-0870; EPA-HQ-OAR-2010-0871; FRL-9688-8]

RIN 2060-AR00

National Uniform Emission Standards for Storage Vessel and Transfer Operations, Equipment Leaks, and Closed Vent Systems and Control Devices; and Revisions to the National Uniform Emission Standards General Provisions

AGENCY: Environmental Protection Agency (EPA).

ACTION: Extension of public comment period.

SUMMARY: On March 26, 2012, the EPA proposed the National Uniform Emission Standards for Storage Vessels and Transfer Operations, Equipment Leaks, and Closed Vent Systems and Control Devices, herein referred to as Uniform Standards. The EPA is extending the deadline for written comments on the proposed amendments by 90 days to September 24, 2012. The EPA received requests for this extension from the American Petroleum Institute (API) and the American Chemistry Council (ACC). API and ACC each requested an extension in order to fully evaluate the potential impact of the Uniform Standards on subparts applicable to the refining and chemical industries, respectively. The EPA finds these requests to be reasonable due to the multiple source categories potentially affected by this action.

DATES: Comments must be received on or before September 24, 2012.

ADDRESSES: Technical comments pertinent to the Uniform Standards should be identified as follows:

• Uniform Standards for Storage Vessels and Transfer Operations should be marked, “Attention Docket ID No. EPA-HQ-OAR-2010-0871.”

• Uniform Standards for Equipment Leaks should be marked, “Attention Docket ID No. EPA-HQ-OAR-2010-0869.”

• Uniform Standards for Control Devices should be marked, “Attention Docket ID No. EPA-HQ-OAR-2010-0868.”

• Uniform Standards General Provisions or General Comments on the Uniform Standards should be marked, “Attention Docket ID No. EPA-HQ-OAR-2010-0870.”

Submit your comments, identified by the appropriate Docket ID No., by one of the following methods:

• www.regulations.gov: Follow the on-line instructions for submitting comments.

• Email: a-and-r-docket@epa.gov, Attention Docket ID No. EPA-HQ-OAR-2010-0868; EPA-HQ-OAR-2010-0869; EPA-HQ-OAR-2010-0870; or EPA-HQ-OAR-2010-0871 (as appropriate).

• Fax: (202) 566-9744, Attention Docket ID No. EPA-HQ-OAR-2010-0868; EPA-HQ-OAR-2010-0869; EPA-HQ-OAR-2010-0870; or EPA-HQ-OAR-2010-0871 (as appropriate).

• Mail: U.S. Postal Service, send comments to: EPA Docket Center, EPA West (Air Docket), Attention Docket ID No. EPA-HQ-OAR-2010-0868; EPA-HQ-OAR-2010-0869; EPA-HQ-OAR-2010-0870; or EPA-HQ-OAR-2010-0871 (as appropriate), U.S. Environmental Protection Agency, Mailcode: 2822T, 1200 Pennsylvania Ave. NW., Washington, DC 20460. Please include a total of two copies. In addition, please mail a copy of your comments on the information collection provisions to the Office of Information and Regulatory Affairs, Office of Management and Budget (OMB), Attn: Desk Officer for EPA, 725 17th Street NW., Washington, DC 20503.

• Hand Delivery: U.S. Environmental Protection Agency, EPA West (Air Docket), Room 3334, 1301 Constitution Ave. NW., Washington, DC 20004. Attention Docket ID No. EPA-HQ-OAR-2010-0868; EPA-HQ-OAR-2010-0869; EPA-HQ-OAR-2010-0870; or EPA-HQ-OAR-2010-0871 (as appropriate). Such deliveries are only accepted during the Docket's normal hours of operation, and special arrangements should be made for deliveries of boxed information.

Instructions. Direct your comments to Docket ID No. EPA-HQ-OAR-2010-0868; EPA-HQ-OAR-2010-0869; EPA-HQ-OAR-2010-0870; or EPA-HQ-OAR-2010-0871 (as appropriate). The EPA's policy is that all comments received will be included in the public docket without change and may be made available online at www.regulations.gov, including any personal information provided, unless the comment includes information claimed to be confidential business information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket, visit the EPA Docket Center homepage at http://www.epa.gov/epahome/dockets.htm.

Docket. The EPA has established dockets for this rulemaking under Docket ID No. EPA-HQ-OAR-2010-0868, EPA-HQ-OAR-2010-0869, EPA-HQ-OAR-2010-0870, and EPA-HQ-OAR-2010-0871. All documents in the docket are listed in the www.regulations.gov index. Although listed in the index, some information is not publicly available, e.g., CBI or other information whose disclosure is restricted by statute. Certain other material, such as copyrighted material, is not placed on the Internet and will be publicly available only in hard copy. Publicly available docket materials are available either electronically in www.regulations.gov or in hard copy at the EPA Docket Center, EPA West, Room 3334, 1301 Constitution Ave. NW., Washington, DC. The Public Reading Room is open from 8:30 a.m. to 4:30 p.m., Monday through Friday, excluding legal holidays. The telephone number for the Public Reading Room is (202) 566-1744, and the telephone number for the EPA Docket Center is (202) 566-1742.

FOR FURTHER INFORMATION CONTACT: For information regarding the proposed General Provisions to the National Uniform Emission Standards, contact Ms. Brenda Shine, (919) 541-3608, Sector Policies and Programs Division (E143-01), Office of Air Quality Planning and Standards, U.S. Environmental Protection Agency, Research Triangle Park, North Carolina 27711; telephone number: (919) 541-3608; fax number (919) 541-0246; email address: shine.brenda@epa.gov.

For information regarding the proposed National Uniform Emission Standards for Equipment Leaks, contact either: Ms. Jodi Howard, Sector Policies and Programs Division (E143-01), Office of Air Quality Planning and Standards, U.S. Environmental Protection Agency, Research Triangle Park, North Carolina 27711; telephone number: (919) 541-4607; fax number (919) 541-0246; email address: howard.jodi@epa.gov; or Ms. Andrea Siefers, Sector Policies and Programs Division (E143-01), Office of Air Quality Planning and Standards, U.S. Environmental Protection Agency, Research Triangle Park, North Carolina 27711; telephone number: (919) 541-1185; fax number (919) 541-0246; email address: siefers.andrea@epa.gov.

For information regarding the proposed National Uniform Emission Standards for Storage Vessel and Transfer Operations, contact Mr. Nick Parsons, Sector Policies and Programs Division (E143-01), Office of Air Quality Planning and Standards, U.S. Environmental Protection Agency, Research Triangle Park, North Carolina 27711; telephone number: (919) 541-5372; fax number (919) 541-0246; email address: parsons.nick@epa.gov.

For information regarding the proposed National Uniform Emission Standards For Control Devices, contact Mr. Andrew Bouchard, Sector Policies and Programs Division (E143-01), Office of Air Quality Planning and Standards, U.S. Environmental Protection Agency, Research Triangle Park, North Carolina 27711; telephone number: (919) 541-4036; fax number (919) 541-0246; email address: bouchard.andrew@epa.gov.

SUPPLEMENTARY INFORMATION: For the reasons noted above, the public comment period will now end on September 24, 2012.

How can I get copies of the proposed rule and other related information?

The proposed rule titled, National Uniform Emission Standards for Storage Vessel and Transfer Operations, Equipment Leaks, and Closed Vent Systems and Control Devices; and Revisions to the National Uniform Emission Standards General Provisions, was published on March 26, 2012 (77 FR 17898). The EPA has established public dockets for the proposed rulemaking under Docket ID No. EPA-HQ-OAR-2010-0868, EPA-HQ-OAR-2010-0869, EPA-HQ-OAR-2010-0870, and EPA-HQ-OAR-2010-0871, and a copy of the proposed rule is available in the docket. Information on how to access the docket is presented above in the ADDRESSES section.

Dated: June 11, 2012.
Gina McCarthy,
Assistant Administrator.

[FR Doc. 2012-14784 Filed 6-15-12; 8:45 am]

BILLING CODE 6560-50-P